DEPARTMENT OF ENERGY

Federal Energy Regulatory Commission

Combined Notice of Filings #2

Take notice that the Commission received the following electric corporate filings:

Docket Numbers: EC15-147-000.

Applicants: Beech Ridge Energy LLC, Beech Ridge Energy Storage LLC.

Description: Application for Authorization Under Section 203 of the Federal Power Act and Request for Waivers and Expedited Action of Beech Ridge Energy LLC, et al.

Filed Date: 5/27/15.

Accession Number: 20150527-5089.

Comments Due: 5 p.m. ET 6/17/15.

Take notice that the Commission received the following electric rate filings:

Docket Numbers: ER15-507-001.

Applicants: NorthWestern Corporation.

Description: Compliance filing per 35: Compliance Filing—Version 003 NAESB WEQ Business Practice Standards to be effective 5/15/2015.

Filed Date: 5/27/15.

Accession Number: 20150527-5073.

Comments Due: 5 p.m. ET 6/17/15.

Docket Numbers: ER15-768-001.

Applicants: Baconton Power LLC.

Description: Compliance filing per 35: Supplement to Triennial Update to be effective 12/31/2014.

Filed Date: 5/27/15.

Accession Number: 20150527-5077.

Comments Due: 5 p.m. ET 6/17/15.

Docket Numbers: ER15-980-002.

Applicants: Midcontinent Independent System Operator, Inc.

Description: Compliance filing per 35: 2015-05-27_SA 2740 Compliance ATC-WE FCA to be effective N/A.

Filed Date: 5/27/15.

Accession Number: 20150527-5082.

Comments Due: 5 p.m. ET 6/17/15.

Docket Numbers: ER15-1785-000.

Applicants: Southwest Power Pool, Inc.

Description: Section 205(d) rate filing per 35.13(a)(2)(iii): Attachment J, Section III Clean-up Filing to be effective 6/1/2015.

Filed Date: 5/27/15.

Accession Number: 20150527-5071.

Comments Due: 5 p.m. ET 6/17/15.

Docket Numbers: ER15-1786-000.

Applicants: Arizona Public Service Company.

Description: Section 205(d) rate filing per 35.13(a)(2)(iii): Rate Schedule No. 280—Certificate of Concurrence to BA Agreement with CAISO to be effective 5/22/2015.

Filed Date: 5/27/15.

Accession Number: 20150527-5076.

Comments Due: 5 p.m. ET 6/17/15.

Docket Numbers: ER15-1787-000.

Applicants: Duke Energy Florida, Inc.

Description: Section 205(d) rate filing per 35.13(a)(2)(iii): DEF-Osprey Mitigation Tariff RS No. 222 to be effective 7/27/2015.

Filed Date: 5/27/15.

Accession Number: 20150527-5081.

Comments Due: 5 p.m. ET 6/17/15.

Docket Numbers: ER15-1788-000.

Applicants: Idaho Power Company.

Description: Tariff Withdrawal per 35.15: Notice of Cancellation of SA 4.335_Construction Agreement_IPC-NorthWestern to be effective 5/27/2015.

Filed Date: 5/27/15.

Accession Number: 20150527-5120.

Comments Due: 5 p.m. ET 6/17/15.

Docket Numbers: ER15-1789-000.

Applicants: El Paso Electric Company.

Description: Section 205(d) rate filing per 35.13(a)(2)(iii): Concurrence of EPE to APS Service Agreement No. 279 to be effective 5/21/2015.

Filed Date: 5/27/15.

Accession Number: 20150527-5112.

Comments Due: 5 p.m. ET 6/17/15.

Take notice that the Commission received the following electric securities filings:

Docket Numbers: ES15-20-000.

Applicants: Cross-Sound Cable Company, LLC.

Description: Supplement to April 28, 2015 Application For Authorization Under Section 204 Of The Federal Power Act of Cross-Sound Cable Company, LLC.

Filed Date: 5/27/15.

Accession Number: 20150527-5154.

Comments Due: 5 p.m. ET 6/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2015.
Nathaniel J. Davis, Sr.,
Deputy Secretary.

[FR Doc. 2015-13310 Filed 6-1-15; 8:45 am]

BILLING CODE 6717-01-P